DEPARTMENT OF COMMERCE

National Oceanic and Atmospheric Administration

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council), together with the Partnership for Mid-Atlantic Fisheries Science, will hold a workshop entitled “Modeling Protogynous Hermaphrodite Fishes.”

DATES: The workshop will be held on Wednesday, August 29, 2012, from 9 a.m. to 5 p.m., and on Thursday, August 30, 2012, from 8:30 a.m. to 4 p.m.

ADDRESSES: The workshop will be held at the Hilton Garden Inn at Raleigh-Durham Airport, 1500 RDU Center Drive, Morrisville, NC 27560; telephone: (919) 840-8088.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: This workshop will address the need for improved stock assessment approaches for protogynous fish, by bringing together a range of stock assessment and other fisheries scientists to provide an overview of current and innovative methods for assessing protogynous fish, and to discuss data needs and modeling strategies.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: August 7, 2012.
Tracey L. Thompson,
Acting Deputy Director, Office of Sustainable Fisheries, National Marine Fisheries Service.

[FR Doc. 2012-19630 Filed 8-9-12; 8:45 am]

BILLING CODE 3510-22-P